COURT SERVICES AND OFFENDER SUPERVISION AGENCY FOR THE DISTRICT OF COLUMBIA

SES Performance Review Board

AGENCY: Court Services and Offender Supervision Agency for the District of Columbia.

ACTION: Notice.

SUMMARY: Notice is hereby given of the appointment of new members to the Court Services and Offender Supervision Services for the District of Columbia (CSOSA) and the Pretrial Services Agency for the District of Columbia (PSA), Senior Executive Service (SES) Performance Review Board (PRB). PSA is an independent agency within CSOSA. The PRB assures consistency, stability, and objectivity in the appraisal process.

DATES: November 1, 2022 to February 2025.

FOR FURTHER INFORMATION CONTACT: William Layne, Deputy Chief of Staff, Court Services and Offender Supervision Agency for the District of Columbia, 633 Indiana Ave. NW, Suite 1200, Washington, DC 20004, (202) 220-5637.

SUPPLEMENTARY INFORMATION: Section 4314(c)(1) of Title 5 of the United States Code requires each agency to establish, in accordance with regulations prescribed by the Office of Personnel Management, one or more SES Performance Review Boards (PRB). (Section 4314(c)(4) requires that notice of appointment of PRB members be published in the Federal Register. The PRB is responsible for making recommendations to the appointing and awarding authority on the performance appraisal ratings and performance awards for SES employees. Members of the PRB will serve a term that shall begin on November 1, 2022. The following executives have been designated as members of the Performance Review Board for CSOSA and PSA:

Lisa Greene, Chief of Staff for CSOSA

Reggie James, Reginald James, Associate Director for the Office of Administration for CSOSA

Paul Girardo, Associate Director for the Office of Financial Management for CSOSA

Leslie Cooper, Director for PSA

Victor Valentino Davis, Assistant Director for Defendant Engagement and Systems Support for PSA

Karen L. Lellock, Assistant Director, Management and Administration for PSA

Dated: October 24, 2022.
David J. Cumberbatch,
Federal Register Liaison.

[FR Doc. 2022-23462 Filed 10-27-22; 8:45 am]

BILLING CODE 3129-04-P